FEDERAL COMMUNICATIONS COMMISSION

Privacy Act System of Records

AGENCY: Federal Communications Commission (FCC or Commission).

ACTION: Notice; one altered Privacy Act system of records; revision of one routine use; and addition of one new routine use.

SUMMARY: Pursuant to subsection (e)(4) of the Privacy Act of 1974, as amended (“Privacy Act”), 5 U.S.C. 552a, the FCC proposes to alter one system of records, FCC/WTB-7, “Remedy Action Request System (RARS).” The FCC will alter the security classification; categories of individuals; the categories of records; the purposes for which the information is maintained; one routine use (and add a new routine use); the storage, retrievability, access, safeguard, and retention and disposal procedures; the record source categories; and make other edits and revisions as necessary to comply with the requirements of the Privacy Act.

DATES: In accordance with subsections (e)(4) and (e)(11) of the Privacy Act, any interested person may submit written comments concerning the alteration of this system of records on or before June 28, 2010. The Office of Management and Budget (OMB), which has oversight responsibility under the Privacy Act to review the system of records, may submit comments on or before July 7, 2010. The proposed altered system of records will become effective on July 7, 2010 unless the FCC receives comments that require a contrary determination. The Commission will publish a document in the Federal Register notifying the public if any changes are necessary. As required by 5 U.S.C. 552a(r) of the Privacy Act, the FCC is submitting reports on this proposed altered system to OMB and to both Houses of Congress.

ADDRESSES: Address comments to Leslie F. Smith, Privacy Analyst, Performance Evaluation and Records Management (PERM), Room 1-C216, Federal Communications Commission (FCC), 445 12th Street, SW., Washington, DC 20554, (202) 418-0217, or via the Internet at Leslie.Smith@fcc.gov.

FOR FURTHER INFORMATION CONTACT: Contact Leslie F. Smith, Performance Evaluation and Records Management (PERM), Room 1-C216, Federal Communications Commission, 445 12th Street, SW., Washington, DC 20554, (202) 418-0217 or via the Internet at Leslie.Smith@fcc.gov.

SUPPLEMENTARY INFORMATION: As required by the Privacy Act of 1974, as amended, 5 U.S.C. 552a(e)(4) and (e)(11), this document sets forth notice of the proposed alteration of one system of records maintained by the FCC, revision of one routine use, and addition of one new routine use. The FCC previously gave complete notice of the system of records (FCC/WTB-7, “Remedy Action Request System (RARS)” covered under this Notice by publication in the Federal Register on April 5, 2006 (71 FR 17234, 17273). This notice is a summary of the more detailed information about the proposed altered system of records, which may be viewed at the location given above in the ADDRESSES section. The purposes for altering FCC/WTB-7, “Remedy Action Request System (RARS),” are to revise the security classification; to revise the categories of individuals; to revise the categories of records; to revise the purposes for which the information is maintained; to revise one routine use and add a new routine use; to revise the procedures for the storage, retrieval, access, safeguards, and retention and disposal of information; to revise the record source categories; and to make other edits and revisions as necessary to update the information and to comply with the requirements of the Privacy Act.

The FCC will achieve these purposes by altering this system of records notice (SORN) with these changes:

Revision of the language explaining the Security Classification, for clarity and to add that the FCC's Security Operations Center (SOC) has not assigned a security classification to this system of records;

Revision of the language regarding the categories of individuals covered by the system, for clarity and to add that the categories of individuals in the RARS system include individuals who request help using the FCC's licensing systems and related Commission research tools, information systems, and electronic databases, i.e., Integrated Spectrum Auction Systems (ISAS), Antenna Registration System (ARS), and Commission Registration System (CORES), etc., and other subsystems included in, or as part of, these systems, etc.;

Revision of the language regarding the categories of records in the system, for clarity and to add that the categories of records in the RARS system include (1) requests for assistance by the requester's first name, last name, telephone number and extension, alternative telephone number and extension, fax number, e-mail address(es), computer operating system, Web browser, FCC Registration Number (FRN), and/or Individual Taxpayer Identification Number (ITIN), and personal security question and answer; and (2) records verifying identity information by the individual's first name, last name, contact telephone number, FRN, and/or ITIN, and personal security question and answer;

Revision of the language regarding the purposes for which the information is maintained, for clarity and to add that (1) the FCC staff uses the records in the RARS information system to record and process requests from individuals or groups for technical help, i.e., technical questions, password requests, etc., using the FCC's licensing systems and related Commission research tool, information systems, and electronic databases; and (2) the FCC management uses the RARS information system software to ensure good customer service and problem resolution.

Revision of Routine Use (1) to add the Internet Web address at: https://esupport.fcc.gov/request.htm, which is where limited public access to certain records may be made available for public users:

Routine Use (1) Public Access—allows that the records in this system will be made available upon request for public inspection after redaction of information that could identify the correspondent, i.e., name, telephone number, ITIN, and e-mail address. Limited public access to certain records may be available via the Internet at: https://esupport.fcc.gov/request.htm. This information includes the status of request, request ID number, and the agent's number who took the call or electronic request for support. Public users who have contacted FCC personnel via telephone, e-mail, or electronic submission may access the system to retrieve a status on the ticket assigned to their request. They will be given this ticket/request number generated by the Remedy Action Request System (RARS) upon submission of a request. This number may be entered into the appropriate field on the FCC Web site to check the status of the ticket. Only the status of that ticket will be released to the public by entering the ticket number—no personal or confidential information is available to the public;

Addition of a new Routine Use (6) to comply with OMB Memorandum M-07-16 (May 22, 2007) governing “breach notifications”:

Routine Use (6) Breach Notification—allows disclosure to appropriate agencies, entities, and persons when (1) the Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm.

Revisions of the language regarding the policies and practices for storage of the records in the system, for clarity and to add that information in the RARS information system consists of electronic data, files, and records, which are housed in the FCC's computer network databases. Any paper documents that WTB receives are scanned into the electronic database upon receipt, then the paper documents are destroyed;

Revision of the language regarding the policies and practices for retrieving the records in the system, for clarity and to add that the electronic data, files, and records may be retrieved by searching electronically using a variety of parameters including the requester's name, entity name, licensee, applicant or unlicensed individual, call sign, file number, problem type, FRN, ITIN, e-mail address, and/or subject matter;

Revision of the language regarding the policies and practices for retrieving the records in the system, for clarity and to add that the electronic data, files, and records may be retrieved by searching electronically using a variety of parameters including the requester's name, entity name, licensee, applicant or unlicensed individual, call sign, file number, problem type, FRN, ITIN, e-mail address, and/or subject matter;

Revision of the language regarding the policies and practices for accessing and safeguarding the records in the system, for clarity and to add that the information in the RARS information system's electronic documents, files, and records is housed in the FCC's computer network databases. Access to the information in these databases is restricted to authorized WTB supervisors, staff, and contractors in WTB and to staff and contractors in the Information Technology Center (ITC), who maintain the FCC's computer network databases. Those who have access to the computer networks are assigned a secured log-in ID and password maintained in the RARS information system. Other employees and contractors may be granted access on a “need-to-know” basis. The network computers are located in secured areas, and they are protected by the FCC's security protocols, which include controlled access, passwords, and other security features. Information resident on the database servers is backed-up routinely onto magnetic media. Back-up tapes are stored on-site and at a secured, off-site location;

Revision of the language regarding the policies and practices for the retention and disposal of records in the system, for clarity and to add that the information in the RARS information system is maintained for 11 years after an individual ceases to be a user of the system. The electronic records, files, and data are destroyed physically (electronic storage media) or by electronic erasure. The paper documents are destroyed by shredding after they are scanned into the RARS information system's electronic databases.

Revision of the language regarding the records source categories, for clarity and to add that information in the RARS information system is provided by RARS user customers who request assistance with the FCC's licensing systems and related Commission research tools, information systems, and electronic databases, i.e., Integrated Spectrum Auctions System (ISAS), Antenna Registration System (ARS), and Commission Registration System (CORES), etc., and other subsystems included in, or as part of, these systems, etc.

The FCC's staff in WTB will use the information in the RARS information system to record and process requests from individuals or groups for technical help, i.e., technical questions, password requests, etc., using the FCC's licensing systems and related Commission research tools, information systems and electronic databases; and the FCC management will use the RARS information system software to ensure good customer service and problem resolution.

This notice meets the requirement documenting the change to the systems of records that the FCC maintains, and provides the public, OMB, and Congress an opportunity to comment.

FCC/WTB-7

SYSTEM NAME:

Remedy Action Request System (RARS).

SECURITY CLASSIFICATION:

The FCC's Security Operations Center (SOC) has not assigned a security classification to this system of records.

SYSTEM LOCATION:

Wireless Telecommunications Bureau (WTB), Federal Communications Commission (FCC), 445 12th Street, SW., Washington, DC 20554.

CATEGORIES OF INDIVIDUALS COVERED BY THE SYSTEM:

The categories of individuals in the RARS system include individuals who request help using the FCC's licensing systems and related Commission research tools, information systems, and electronic databases, i.e., Integrated Spectrum Auctions System (ISAS), Antenna Registration System (ARS), and Commission Registration System (CORES), etc., and other subsystems included in, or as part of, these systems, etc.

CATEGORIES OF RECORDS IN THE SYSTEM:

The categories of records in the RARS system include:

1. Requests for assistance by the requester's first name, last name, telephone number and extension, alternative telephone number and extension, fax number, e-mail address(es), computer operating system, Web browser, FCC Registration Number (FRN), and/or Individual Taxpayer Identification Number (ITIN), and personal security question and answer.

2. Records verifying identity information by the individual's first name, last name, contact telephone number, FRN and/or ITIN, and personal security question and answer.

AUTHORITY FOR MAINTENANCE OF THE SYSTEM:

Sec. 151, 154, 258, 301, 303, 309(e), 312, 362, 364, 386, 507 of the Communications Act of 1934, as amended, 47 U.S.C. 151, 154, 226, 258, 301, 303, 309(e), 312, 362, 364, 386, 507; and 29 U.S.C. 794, 794(d).

PURPOSE(S):

1. The FCC staff uses the records in the RARS information system to record and process requests from individuals or groups for technical help, i.e., technical questions, password requests, etc., using the FCC's licensing systems and related Commission research tools, information systems and electronic databases; and

2. The FCC management uses the RARS information system software to ensure good customer service and problem resolution.

ROUTINE USES OF RECORDS MAINTAINED IN THE SYSTEM, INCLUDING CATEGORIES OF USERS AND THE PURPOSES OF SUCH USES:

Information about individuals in this system of records may routinely be disclosed under the following conditions:

1. Public Access—Records in this system will be made available upon request for public inspection after redaction of information that could identify the correspondent, i.e., name, telephone number, ITIN, and e-mail address. Limited public access to certain records may be available via the Internet at: https://esupport.fcc.gov/request.htm. This information includes the status of request, request ID number, and the agent's number who took the call or electronic request for support. Public users who have contacted FCC personnel via telephone, e-mail, or electronic submission may access the system to retrieve a status on the ticket assigned to their request. They will be given this ticket/request number generated by the Remedy Action Request System (RARS) upon submission of a request. This number may be entered into the appropriate field on the FCC Web site to check the status of the ticket. Only the status of that ticket will be released to the public by entering the ticket number—no personal or confidential information is available to the public;

2. Adjudication and Litigation—Where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law Enforcement and Investigation—Where there is an indication of a violation or potential violation of a statute, regulation, rule, or order, records from this system may be shared with appropriate Federal, State, or local authorities either for purposes of obtaining additional information relevant to a FCC decision or for referring the record for investigation, enforcement, or prosecution by another agency;

4. Congressional Inquiries—When requested by a Congressional office in response to an inquiry by an individual made to the Congressional office for their own records; and

5. Government-wide Program Management and Oversight—When requested by the National Archives and Records Administration (NARA) for the purpose of records management inspections conducted under authority of 44 U.S.C. 2904 and 2906; when the U.S. Department of Justice (DOJ) is contacted in order to obtain that department's advice regarding disclosure obligations under the Freedom of Information Act; or when the Office of Management and Budget (OMB) is contacted in order to obtain that office's advice regarding obligations under the Privacy Act;

6. Breach Notification—A record from this system may be disclosed to appropriate agencies, entities, and persons when (1) the Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Information in the RARS information system consists of electronic data, files, and records, which are housed in the FCC's computer network databases. Any paper documents that WTB receives are scanned into the electronic database upon receipt, and then the paper documents are destroyed.

RETRIEVABILITY:

The electronic data, files, and records may be retrieved by searching electronically using a variety of parameters including the requester's name, entity name, licensee, applicant or unlicensed individual, call sign, file number, problem type, FRN, ITIN, e-mail address, and/or subject matter.

SAFEGUARDS:

The information in the RARS information system's electronic documents, files, and records is housed in the FCC's computer network databases. Access to the information in these databases is restricted to authorized WTB supervisors, staff, and contractors in WTB and to staff and contractors in the Information Technology Center (ITC), who maintain the FCC's computer network databases. Those who have access to the computer networks are assigned a secured log-in ID and password maintained in the RARS information system. Other employees and contractors may be granted access on a “need-to-know” basis.

The network computers are located in secured areas, and they are protected by the FCC's security protocols, which include controlled access, passwords, and other security features. Information resident on the database servers is backed-up routinely onto magnetic media. Back-up tapes are stored on-site and at a secured, off-site location.

RETENTION AND DISPOSAL:

The information in the RARS information system is maintained for 11 years after an individual ceases to be a user of the system. The electronic records, files, and data are destroyed physically (electronic storage media) or by electronic erasure.

Paper documents are destroyed by shredding after they are scanned into the RARS information system's electronic databases.

SYSTEMS MANAGER(S) AND ADDRESS:

Address inquiries to the Wireless Telecommunications Bureau (WTB), Federal Communications Commission (FCC), 445 12th Street, SW., Washington, DC 20554.

NOTIFICATION PROCEDURE:

Address inquiries to the Wireless Telecommunications Bureau (WTB), Federal Communications Commission (FCC), 445 12th Street, SW., Washington, DC 20554.

RECORD ACCESS PROCEDURES:

Address inquiries to the Wireless Telecommunications Bureau (WTB), Federal Communications Commission (FCC), 445 12th Street, SW., Washington, DC 20554.

CONTESTING RECORD PROCEDURES:

Address inquiries to the Wireless Telecommunications Bureau (WTB), Federal Communications Commission (FCC), 445 12th Street, SW., Washington, DC 20554.

RECORD SOURCE CATEGORIES:

Information in the RARS information system is provided by RARS user customers who request assistance with the FCC's licensing systems and related Commission research tools, information systems, and electronic databases, i.e., Integrated Spectrum Auctions System (ISAS), Antenna Registration System (ARS), and Commission Registration System (CORES), etc., and other subsystems included in, or as part of, these systems, etc.

EXEMPTIONS CLAIMED FOR THE SYSTEM:

None.

Marlene H. Dortch,
Secretary, Federal Communications Commission.

[FR Doc. 2010-12934 Filed 5-27-10; 8:45 am]

BILLING CODE 6712-01-P